DEPARTMENT OF COMMERCE

National Oceanic and Atmospheric Administration

[Docket No. 030602141-3244-03; I.D. 061703A]

RIN 0648-ZB55

Availability of Grant Funds for Fiscal Year 2004

AGENCY: National Oceanic and Atmospheric Administration (NOAA), Department of Commerce (DOC).

ACTION: Omnibus Notice Announcing the Availability of Grant Funds for Fiscal Year 2004

SUMMARY: The National Oceanic and Atmospheric Administration (NOAA) announces a second availability of grant funds for Fiscal Year 2004. The purpose of this notice is to provide the general public with a single source of program and application information related to the Agency's competitive grant offerings, and it contains the information about those programs required to be published in the Federal Register. This second omnibus notice is designed to replace the multiple Federal Register notices that traditionally advertised the availability of NOAA's discretionary funds for its various programs. It should be noted that additional program initiatives unanticipated at the time of the publication of this notice may be announced through both subsequent Federal Register notices and the NOAA website: http://www.ofa.noaa.gov/~amd/SOLINDEX.HTML

DATES: Proposals must be received by the date and time indicated under each program listing in the SUPPLEMENTARY INFORMATION section.

ADDRESSES: Proposals must be submitted to the addresses listed in the SUPPLEMENTARY INFORMATION section for each program.

FOR FURTHER INFORMATION CONTACT: For a copy of the full funding opportunity announcement and/or application kit, please contact the person listed as the information contact under each program or access it via NOAA's website: http://www.ofa.noaa.gov/~amd/SOLINDEX.HTML

SUPPLEMENTARY INFORMATION: NOAA published its first omnibus notice announcing the availability of grant funds for both projects and fellowships/scholarships/internships for Fiscal Year 2004 in the Federal Register on June 30, 2003 (68 FR 38678). The evaluation criteria and selection procedures contained in the June 30, 2003 omnibus notice are applicable to this solicitation. For a copy of the June 30, 2003 omnibus notice, please go to: http://www.ofa.noaa.gov/~amd/SOLINDEX.HTML

Electronic Access

The full funding announcement for each program is available via website: http://www.ofa.noaa.gov/~amd/SOLINDEX.HTML or by contacting the program official identified below. These announcements will also be available through FedGrants at http://www.fedgrants.gov.

NOAA Project Competitions

This second omnibus notice describes funding opportunities for the following NOAA discretionary grant programs:

National Marine Fisheries Service

1. Bay Watershed Education & Training (B-WET) Program

Summary Description: The B-WET grant program is a competitively based program that supports existing environmental education programs, fosters the growth of new programs, and encourages the development of partnerships among environmental education programs throughout the entire Chesapeake Bay watershed. Funded projects assist in meeting the Stewardship and Community Engagement goals of the Chesapeake 2000 Agreement. Projects support organizations that provide students “meaningful” Chesapeake Bay or stream outdoor experiences and professional development opportunities for teachers in the area of environmental education related to the Chesapeake Bay watershed.

Funding Availability: This solicitation announces that approximately $1.85M may be available in FY 2004 in award amounts to be determined by the proposals and available funds. The NOAA Chesapeake Bay Office (NCBO) anticipates that approximately 30 grants will be awarded with these funds. About $925,000 will be for proposals that provide opportunities for students (K through 12) to participate in a “Meaningful” Chesapeake Bay or Stream Outdoor Experience. Of the amount available for this area of interest, about $100,000 will be awarded to smaller, community-based organizations that work at a local level to provide environmental education programs. About $925,000 will be for proposals that provide opportunities for Professional Development in the area of Environmental Education for Teachers within the Chesapeake Bay Watershed. The NCBO anticipates that typical project awards for “Meaningful” Bay or Stream Outdoor Experiences and Professional Development in the Area of Environmental Education for Teachers will range from $10,000 to $150,000. Proposals will be considered for funds greater than the specified range.

Statutory Authority: 16 U.S.C 661, 15 U.S.C. 1540.

CFDA: 11.457 Chesapeake Bay Studies, Education.

Application Deadline: Preliminary proposals must be received by 5 p.m. eastern standard time (EST) on November 17, 2003. Full proposals must be received by 5 p.m. EST on December 31, 2003.

Address for submitting Proposals: NOAA Chesapeake Bay Office; Education Coordinator; 410 Severn Avenue, Suite 107A; Annapolis, MD 21403.

Information Contact(s): Shannon Sprague: 410-267-5664 or shannon.sprague@noaa.gov.

Eligibility: Eligible applicants for both areas of interest (i.e., “Meaningful” Chesapeake Bay or Stream Outdoor Experience and Professional Development in the Area of Environmental Education for Teachers Within the Chesapeake Bay Watershed) are K-through-12 public and independent schools and school systems, institutions of higher education, nonprofit organizations, state or local government agencies, interstate agencies, and Indian tribal governments in the Chesapeake Bay watershed.

Cost Sharing Requirements: Encouraged, but not required.

Intergovernmental Review: Applications under this program are not subject to Executive Order 12372, “Intergovernmental Review of Federal Programs.”

2. Chesapeake Bay Fisheries Research Program.

Summary Description: The Chesapeake Bay Fisheries Research Program is a competitively based program that supports research, monitoring, modeling and management addressing various aspects of Chesapeake Bay fisheries. The Chesapeake Bay is a complex and dynamic ecosystem that supports many fisheries that are economically important both regionally and nationally. The NOAA Chesapeake Bay Office (NCBO) established the Fisheries Steering Committee in 2001 to guide various Chesapeake Bay fisheries' issues including management and research in an ecosystem context. Funded projects foster our knowledge and understanding of the Chesapeake Bay ecosystem by: (1) providing biological information and life history characteristics for many individual Chesapeake Bay fisheries stocks, and (2) broadening the multispecies knowledge base for development of Fisheries Ecosystem Planning. All projects supported through this program will address recommendations of the Chesapeake Bay Fisheries Ecosystem Plan (http://noaa.chesapeakebay.net/fisheries) and provide timely (real-time) information for making resource management decisions in an ecosystem context.

Funding Availability: This solicitation announces that approximately $1.5M may be available in FY 2004 for cooperative agreements in amounts to be determined by the proposals and available funds. Proposals may be submitted for up to 3 years. However, funds will be made available for only a 12-month award period and any renewal of the award period will depend on submission of a successful proposal subject to merit review, adequate progress on previous award(s), and available funding to renew the award. It is the intent of the NCBO to renew funding for several projects currently being supported and to make awards with funding through this notice to these programs pending successful review of a new application package, and adequate progress reports and/or site visits.

Statutory Authority: 16 U.S.C. 661.

CFDA: 11.457, Chesapeake Bay Studies, Fisheries Research.

Application Deadline: Applicants are strongly encouraged to submit applications electronically through http://www.grants.gov, however, you may also submit your application to NOAA in paper format.

For electronic submission - Proposals must be received by 5 p.m. eastern time on December 1, 2003. Proposals received after that time will not be considered for funding. Users of Grants.gov will be able to download a copy of the application package, complete it off line, and then upload and submit the application package and associated proposal information via the Grants.gov website.

For paper submission - proposals must be received by 5 p.m. eastern time on December 1, 2003. Proposals received after that time will not be considered for funding. NCBO determines whether an application has been submitted before the deadline by date/time stamping the applications as they are physically received in the NCBO office.

Address for submitting Proposals: Electronic submission online: http://www.grants.gov/

Paper submission: Derek M. Orner, NOAA Chesapeake Bay Office, 410 Severn Avenue, Suite 107A, Annapolis, MD 21403.

Information Contact(s): Derek M. Orner, NOAA Chesapeake Bay Office, 410 Severn Avenue, Suite 107A, Annapolis, MD 21403, or by phone at 410-267-5676, or fax to 410-267-5666, or via internet at derek.orner@noaa.gov.

Eligibility: Eligible applicants are institutions of higher education, other nonprofits, commercial organizations, foreign governments, organizations under the jurisdiction of foreign governments, international organizations, state, local and Indian tribal governments. Federal agencies or institutions are not eligible to receive Federal assistance under this notice.

Cost Sharing Requirements: No cost sharing is required under this program, however, the NCBO strongly encourages applicants applying for either area of interest to share as much of the costs of the award as possible. Funds from other Federal awards may not be considered matching funds. The nature of the contribution (cash versus in-kind) and the amount of matching funds will be taken into consideration in the review process. Priority selection will be given to proposals that propose cash rather than in-kind contributions.

Intergovernmental Review: Applications under this program are subject to Executive Order 12372, “Intergovernmental Review of Federal Programs.”

National Ocean Service

1. Geodetic Science and Applied Research (GSAR) Program

Summary Description: The GSAR Program represents an NOAA/NGS effort to conduct basic and applied research in the geodetic sciences that advances positioning operations and services in support of transportation and commerce on a national basis. This initial opportunity is focused on a specific problem: Three-Frequency Real-Time Kinematic (RTK) Positioning by Different Support Architectures. There are at least 8 additional priorities that will be addressed in the future in the GSAR Program.

Funding Availability: One award of no more than $65,000 is expected to be made through this announcement, depending on availability of funds.

Statutory Authority: Authority for the GSAR program is provided by the following: Coast and Geodetic Survey Act, Public Law 80-373, 33 U.S.C. 883d.

CFDA: 11.400, Applied Geodetic Research.

Application Deadline: Proposals must be received by the NGS no later than 5 p.m., EDT, November 17, 2003.

Address for submitting Proposals: Geodetic Services Division; NOAA National Geodetic Survey; N/NGS1; 1315 East-West Highway, Room 9356; Silver Spring, Maryland 20910-3282.

Information Contact(s): Gilbert J. Mitchell: 301-713-3228 ext. 114, or fax to 301-713-4176, or via internet at Gilbert.Mitchell@noaa.gov.

Eligibility: Eligible applicants are institutions of higher education and federally funded educational institutions such as the Naval Postgraduate School.

Cost Sharing Requirements: No cost sharing is required under this program.

Intergovernmental Review: Applications under this program are not subject to Executive Order 12372, “Intergovernmental Review of Federal Programs.”

Oceans and Atmospheric Research

1. The Gulf of Mexico Oyster Industry Program

Summary Description: It is the goal of the Gulf Oyster Industry Program to encourage multi-disciplinary research and extension projects that contribute directly to the efficiency and profitability of oyster-related businesses and to the safety of oyster products. It encourages multi-disciplinary approaches to meet the challenges faced by the oyster industry in producing wholesome seafood products. Oyster businesses seek innovative solutions at all producing and processing levels, including: production (landings), oyster disease diagnostics, harvesting, post-harvest treatment, processing, distribution, marketing, consumer education, and food safety.

Funding Availability: Approximately $1 million is available for the Gulf Oyster Industry competition in 2004 and a similar amount is expected but not assured for FY-2005, therefore, two-year projects will be considered. Proposals are limited to a total of $200,000 for each year and approximately 7 full proposals will be funded.

Statutory Authority: 33 U.S.C. 1121-1131.

CFDA: 11.417, Sea Grant Support.

Application Deadline: Pre-proposals must be received by 5 p.m. (local time) on December 1, 2003 and full proposals by 5 p.m. (local time) February 3, 2004 by a state Sea Grant Program [or by the National Sea Grant Office (NSGO) in the case of an applicant in a non-Sea Grant state]. Applications are to be forwarded to the NSGO by the state Sea Grant Programs by 5 p.m. EST on December 8, 2003 for pre-proposals and by 5 p.m. EST February 10, 2004 for full proposals.

Address for submitting Proposals: Prospective applicants living in Sea Grant States should submit their preliminary and full proposals to the their state's Sea Grant program. Addresses for state Sea Grant programs are available at www.mdsg.umd.edu/ngo/research or by contacting NOAA at National Sea Grant College Program, R/SG, Attn: Gulf Oyster Industry Competition, Room 11838, NOAA, 1315 East-West Highway, Silver Spring, MD 20910, Phone: 301-713-2451. Applicants from non-Sea Grant states should send preliminary and full proposals to the above address.

Information Contact(s): James P. McVey, Program Director for Aquaculture, or Mary Robinson, Secretary, National Sea Grant Office, 301-713-2451, facsimile 301-713-0799, e-mail-Jim.McVey@NOAA.gov.

Eligibility: Individuals, institutions of higher education, nonprofit organizations, commercial organizations, State, local and Indian tribal governments, are eligible. Only those who submit preliminary proposals by the preliminary proposal deadline are eligible to submit full proposals. Those submitting preliminary proposals by the preliminary proposal deadline that are not recommended by the pre-proposal review process still are eligible to submit full proposals.

Cost Sharing requirements: Applicants are required to provide one dollar for every two of Federal funds.

Intergovernmental Review: Applications under this program are not subject to Executive Order 12372, “Intergovernmental Review of Federal Programs.”

2. National Marine Aquaculture Initiative

Summary Description: The NOAA Office of Oceanic and Atmospheric Research, in cooperation with the National Sea Grant College Program, the National Marine Fisheries Service, and the National Ocean Service, is seeking preliminary proposals and full proposals in innovative research, policy and regulatory analysis and development, and outreach and demonstration for the development of marine and Great Lakes aquaculture in the United States.

Funding Availability: Depending upon appropriations, it is anticipated that $3.1 million will be available for proposals of one or two years duration. The maximum request for a single proposal is $400,000 for a one-year proposal and $800,000 for a two-year proposal. Approximately 10 awards will be made.

Statutory Authority: 33 U.S.C. 1121-1131

CFDA: 11.417, Sea Grant Support

Application Deadline: The pre-proposals are due by 5 p.m. (local time) on December 1, 2003 and full proposals are due by 5 p.m. (local time) on February 3, 2004 at a state Sea Grant Program [or by the National Sea Grant Office (NSGO) in the case of an applicant from a non-sea Grant state]. Applications are to be forwarded to the NSGO by the state Sea Grant Programs by 5 p.m. EST on December 8, 2003 for pre-proposals and by 5 p.m. EST on February 10, 2004 for full proposals.

Address for submitting Proposals: Prospective applicants living in Sea Grant States should submit their preliminary and full proposals to the their state's Sea Grant program. Addresses for state Sea Grant programs are available at www.mdsg.umd.edu/ngo/research or by contacting NOAA at National Sea Grant College Program, R/SG, Attn: Gulf Oyster Industry Competition, Room 11838, NOAA, 1315 East-West Highway, Silver Spring, MD 20910, Phone: 301-713-2451. Applicants from non-Sea Grant states should send preliminary and full proposals to the above address.

Information Contact(s): James P. McVey, Program Director for Aquaculture, or Mary Robinson, Secretary, National Sea Grant Office, 301 713 2451, facsimile 301-713-0799, e-mail-Jim.McVey@NOAA.gov.

Eligibility: Individuals, institutions of higher education, nonprofit organizations, commercial organizations, Federal, State, local and Indian tribal governments, are eligible. Only those who submit preliminary proposals by the preliminary proposal deadline are eligible to submit full proposals. Those submitting preliminary proposals by the preliminary proposal deadline that are not recommended by the pre-proposal review process still are eligible to submit full proposals.

Cost Sharing Requirements: None.

Intergovernmental Review: Applications under this program are not subject to Executive Order 12372, “Intergovernmental Review of Federal Programs.”

NOAA Fellowships/Scholarships/Internships Competitions

This second omnibus notice describes funding opportunities for the following NOAA discretionary fellowship, scholarship, and internship programs:

Oceans and Atmospheric Research

1. Sea Grant - Industry Fellowship Program

Summary Description: The National Sea Grant College Program (Sea Grant) within OAR is seeking applications for one of its fellowship programs to fulfill its broad educational responsibilities and to strengthen the collaboration between Sea Grant and industry. The Sea Grant - Industry Fellowship is available to graduate students enrolled in either MS or PhD degree programs in institutions of higher education in the United States and its territories, with required matching funds from private industrial sponsors. Industry Fellows will work on research and development projects on topics of interest to a particular industry/company. In a true partnership, the student, the faculty advisor, the Sea Grant College or institute, and the industry representative will work together, sharing research facilities and the cost of the activity.

Funding Availability: Sea Grant anticipates awarding a total of $300,000 in Federal funds through this announcement by supporting five new Industry Fellows for two years beginning in FY 2004. The award for each Industry Fellowship, contingent upon the availability of Federal funds, will be in the form of a grant of up to $30,000 per year from Sea Grant; at least 50% of the Federal share is required as a match by the applicant (i.e., $15,000 match for $30,000 in Federal funds for a total project cost of $45,000). Awards will have an anticipated start date of June 1, 2004.

Statutory Authority: 33 U.S.C. 1127(a).

CFDA: 11.417, Sea Grant Support.

Application Deadline: Applications must be received by 5 p.m. (local time) on December 1, 2003, by a state Sea Grant Program [or by the National Sea Grant Office (NSGO) in the case of an institution of higher education in a non-Sea Grant state]. Applications are to be forwarded to the NSGO by the state Sea Grant Programs by 5 p.m. (local time) on December 8, 2003.

Address for Submitting Applications: Applications from institutions of higher education in Sea Grant states must be submitted to the state Sea Grant Program. The addresses of the state Sea Grant College Programs may be found at the following Internet website: (http://www.nsgo.seagrant.org/SGDirectors.html) or may also be obtained by contacting Mr. Joseph Brown at the NSGO (mail address: National Sea Grant College Program, 1315 East-West Highway, Silver Spring, MD 20910; phone: 301-713-2438 x135; or e- mail: joe.brown@noaa.gov). Applications from elsewhere may be submitted either to the nearest state Sea Grant Program or directly to the NSGO. Applications submitted to the NSGO should be addressed to: National Sea Grant Office, R/SG, Attn: Mrs. Geraldine Taylor, Proposal Processing, Room 11732, NOAA, 1315 East-West Highway, Silver Spring, MD 20910 (telephone number for express mail applications is 301-713-2445).

Information Contact(s): Dr. Leon M. Cammen, National Sea Grant College Program, 1315 East-West Highway, Silver Spring, MD 20910; tel: (301) 713-2435 ext. 136; e-mail: leon.cammen@noaa.gov; or any state Sea Grant Program.

Eligibility: Prospective Fellows must be enrolled or provisionally accepted in an MS or PhD degree program at an institution of higher education in the United States or its territories. Applications must be submitted by the institution of higher education.

Cost Sharing Requirements: Required 50 percent match of the Federal funds by the industrial partner.

Intergovernmental Review: Applications under this program are not subject to Executive Order 12372, “Intergovernmental Review of Federal Programs.”

2. GradFell 2004 NMFS - Sea Grant Joint Graduate Fellowship Program in Population Dynamics and Marine Resource Economics.

Summary Description: The National Sea Grant College Program (Sea Grant) within OAR is seeking applications for one of its fellowship programs to fulfill its broad educational responsibilities and to strengthen the collaboration between Sea Grant and NMFS. Fellows will work on thesis problems of public interest and relevance to NMFS and have summer internships at participating NMFS Science Centers or Laboratories under the guidance of NMFS mentors.

Funding Availability: The NMFS - Sea Grant Joint Graduate Fellowship Program in Population Dynamics and Marine Resource Economics expects to support four new Fellows for 2-3 years beginning in FY 2004. The award for each fellowship will be a cooperative agreement of $38,000 per year, with an anticipated start date of June 1, 2004.

Statutory Authority: 33 U.S.C. 1127(a).

Catalog of Federal Domestic Assistance Number: 11.417, Sea Grant Support.

Application Deadline: Applications must be received by 5 p.m. (local time) on December 1, 2003 by a state Sea Grant Program [or by the National Sea Grant Office (NSGO) in the case of an institution of higher education in a non-Sea Grant state]. Applications are due at the NSGO from state Sea Grant Programs by 5 p.m. EST on December 8, 2003.

Address for Submitting Applications: Applications from institutions of higher education in Sea Grant states must be submitted to the state Sea Grant Program. The addresses of the state Sea Grant College Programs may be found at the following Internet website: (http://www.nsgo.seagrant.org/SGDirectors.html) or may also be obtained by contacting Mr. Joseph Brown at the NSGO [mail address: National Sea Grant College Program, 1315 East-West Highway, Silver Spring, MD 20910; tel: (301) 713-2438 ext. 135; or e- mail: joe.brown@noaa.gov]. Applications from elsewhere may be submitted either to the nearest state Sea Grant Program or directly to the NSGO. Applications submitted to the NSGO should be addressed to: National Sea Grant Office, R/SG, Attn: Mrs. Geraldine Taylor, Proposal Processing, Room 11732, NOAA, 1315 East-West Highway, Silver Spring, MD 20910 (telephone number for express mail applications is 301-713-2445).

Information Contact: Dr. Emory D. Anderson, National Sea Grant College Program, 1315 East-West Highway, Silver Spring, MD 20910; tel: (301) 713-2435 ext. 144; e-mail: emory.anderson@noaa.gov; any state Sea Grant Program; or any participating NMFS facility.

Eligibility: Applicants must be United States citizens and must be enrolled or provisionally accepted in a PhD degree program in population dynamics or a related field (e.g., applied mathematics, statistics, or quantitative ecology) or in natural resource economics or a related field at an institution of higher education in the United States or its territories. Applications must be submitted by an institution of higher education.

Cost Sharing Requirements: Required 50 percent match of the NSGO funds by the academic institution (i.e.,$6,333).

Intergovernmental Review: Applications under this program are not subject to Executive Order 12372, “Intergovernmental Review of Federal Programs.”

Limitation of Liability

Funding for programs listed in this notice is contingent upon the availability of Fiscal Year 2004 appropriations. NOAA issues this notice subject to the appropriations made available under the current continuing resolution (CR), H.J. Res. 69, “Making continuing appropriations for the fiscal year 2004, and for other purposes,” Public Law 108-85. NOAA anticipates making awards for programs listed in this notice provided that funding for the programs is continued beyond October 31, 2003, the expiration of the current continuing resolution. In no event will NOAA or the Department of Commerce be responsible for proposal preparation costs if these programs fail to receive funding or are cancelled because of other agency priorities. Publication of this announcement does not oblige NOAA to award any specific project or to obligate any available funds.

Universal Identifier

Applicants should be aware that, for programs that have deadline dates on or after October 1, 2003, they will be required to provide a Dun and Bradstreet Data Universal Numbering System (DUNS) number during the application process. See the June 27, 2003 (68 FR 38402) Federal Register notice for additional information. Organizations can receive a DUNS number at no cost by calling the dedicated toll-free DUNS Number request line at 1-866-705-5711 or via the internet (http://www.dunandbradstreet.com).

The Department of Commerce Pre-Award Notification Requirements for Grants and Cooperative Agreements

The Department of Commerce Pre-Award Notification Requirements for Grants and Cooperative Agreements contained in the Federal Register notice of October 1, 2001 (66 FR 49917), as amended by the Federal Register notice published on October 30, 2002 (67 FR 66109), are applicable to this solicitation.

Paperwork Reduction Act

This document contains collection-of-information requirements subject to the Paperwork Reduction Act (PRA). The use of Standard Forms 424, 424A, 424B, SF-LLL, and CD-346 have been approved by Office of Management and Budget (OMB) under the respective control numbers 0348-0043, 0348-0044, 0348-0040, 0348-0046, and 0605-0001. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/ Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: October 10, 2003.
John J. Kelly, Jr.,
Deputy Undersecretary of Commerce for Oceans and Atmosphere, National Oceanic and Atmospheric Administration.

[FR Doc. 03-26297 Filed 10-16-03; 8:45 am]

BILLING CODE 3510-22-S